FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Right to Submit Technical or Scientific Data to correct Mapping Deficiencies.

Type of Information Collection: Revision of a currently approved collection.

OMB Number: 3067-0147.

Abstract: FEMA Forms 81-87, Property Information, 81-87A, Elevation Information and 81-87B, Community Acknowledgement (referred to as MT-1 series forms) are designed to assist requestors in gathering information that FEMA needs to determine whether a certain property is likely to be flooded during a flood event that has a 1-percent annual chance of being equaled or exceeded in any given year (base flood). FEMA Form 81-87, Property Information Form, describes the location of the property. FEMA Form 81-87A, Elevation Form, indicates the Base (1-percent annual chance) Flood Elevation (BFE) for the property, and FEMA Form 81-87B, Community Acknowledgment Form, requires that a community official certify that the request complies with minimum floodplain management criteria.

Affected Public: Individuals or households, business or other for profit, and State, Local or Tribal Government.

Number of Respondents: 3,300.

Estimated Total Annual Burden Hours: 11,583 hours.

FEMA Forms 25 | Number of respondents (A) | Frequency of response (B) | Hours per response (C) | Annual burden hours (A × B × C)
81-87 | 3,300 | Annual | 1.63 | 5,379
81-87A | 3,300 | Annual | 1.00 | 3,300
81-87B | 3,300 | Annual | 0.88 | 2,904
Total | 3,300 |  | 3.51 | 11,583

Frequency of Response: On Occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW, Room 316, Washington, DC 20472, telephone number (202) 646-2625 or facsimile number (202) 646-3347, or e:mail muriel.anderson@fema.gov.

Dated: June 7, 2002.
Muriel B. Anderson,
Acting Branch Chief, Program Services and Systems Branch,Facilities Management and Services Division,Administration and Resource Planning Directorate.

[FR Doc. 02-16331 Filed 6-27-02; 8:45 am]

BILLING CODE 6718-01-P